FEDERAL COMMUNICATIONS COMMISSION

47 CFR Part 73

[DA 04-2394; MB Docket No. 02-76; RM-10405, 10499]

Radio Broadcasting Services; Belle Haven, VA, Crisfield, MD, Exmore, Nassawadox, and Poquoson, VA

AGENCY: Federal Communications Commission.

ACTION: Final rule.

SUMMARY: In response to a petition for reconsideration of a Report and Order, 68 FR 59748 (October 17, 2003), this Memorandum Opinion and Order substitutes Channel 250A for Channel 245A at Crisfield, Maryland, and substitutes Channel 252A for Channel 250B1 at Belle Haven, Virginia. The coordinates for Channel 250A at Crisfield, Maryland are 37-54-51 NL and 75-42-45 WL, with a site restriction of 14.63 kilometers (9.1 miles) southeast of Crisfield. The coordinates for Channel 252A at Belle Haven, Virginia, are 37-33-14 NL and 75-49-14 WL, with a site restriction of 0.04 kilometers (0.02 miles) southeast of Belle Haven, Virginia.

DATES: Effective September 13, 2004.

FOR FURTHER INFORMATION CONTACT: R. Barthen Gorman, Media Bureau, (202) 418-2180.

SUPPLEMENTARY INFORMATION: This is a synopsis of the Commission's Memorandum Opinion and Order, MB Docket No. 02-76, adopted July 28, 2004, and released July 30, 2004. The full text of this Commission decision is available for inspection and copying during normal business hours in the FCC's Reference Information Center at Portals II, 445 12th Street, SW., Room CY-A257, Washington, DC, 20554. The document may also be purchased from the Commission's duplicating contractor, Best Copy and Printing, Inc., Portals II, 445 12th Street, SW., Room CY-B402, Washington, DC, 20554, telephone 202 863-2893, facsimile 202 863-2898. The Commission will send a copy of this Memorandum Opinion and Order in a report to be sent to Congress and the General Accounting Office pursuant to the Congressional Review Act, see 5 U.S.C. 801(a)(1)(A).

List of Subjects in 47 CFR Part 73

Radio, Radio broadcasting.

Part 73 of Title 47 of the Code of Federal Regulations is amended as follows:

PART 73—RADIO BROADCAST SERVICES

1. The authority citation for Part 73 reads as follows:

Authority: 47 U.S.C. 154, 303, 334, and 336.

§ 73.202 [Amended]

2. Section 73.202(b), the Table of FM Allotments under Maryland, is amended by adding Channel 250A and by removing Channel 245A at Crisfield.

3. Section 73.202(b), the Table of FM allotments under Virginia, is amended by adding Channel 252A and by removing Channel 250B1 at Belle Haven.

Federal Communications Commission.
John A. Karousos,
Assistant Chief, Audio Division, Media Bureau.

[FR Doc. 04-18465 Filed 8-11-04; 8:45 am]

BILLING CODE 6712-01-P